DEPARTMENT OF TRANSPORTATION

Coast Guard

[USCG-2000-6942]

Commercial Fishing Vessel Safety Listening Sessions

AGENCY: Coast Guard, DOT.

ACTION: Notice of meetings.

SUMMARY: The Coast Guard will hold five more regional listening sessions to present, and receive feedback on, the Coast Guard's Commercial Fishing Vessel Safety Action Plan (CFVSAP). The Coast Guard created the CFVSAP to help fishermen improve the level of safety in the fishing industry. The information gathered during these listening sessions will be presented to the Commercial Fishing Industry Vessel Advisory Committee and used to further refine the CFVSAP. The first two listening sessions took place in Rockport, ME, and Kodiak, AK. The remaining listening sessions are scheduled for Norfolk, VA; Charleston, SC; Galveston, TX; Los Angeles, CA; and Seattle, WA.

DATES: The listening session in Norfolk, VA, will be on April 5, 2000, from 12:30 p.m. to 4:00 p.m.; the one in Charleston, SC, will be on April 13, 2000, from 1:00 p.m. to 5:00 p.m.; the one in Galveston, TX, will be on May 5, 2000, from 9:00 a.m. to 12:00 p.m.; the one in Los Angeles, CA, will be on May 20, 2000, from 10:00 a.m. to 2:00 p.m.; and the one in Seattle, WA, will be on June 13, 2000, from 9:00 a.m. to 12:00 p.m. The comment period will close on July 30, 2000.

ADDRESSES:

Norfolk Airport Hilton, 1500 North Military Hwy, Norfolk, VA 23502, Tel. (757) 466-8000

Maritime Center, 10 Wharfside St., Charleston, SC 29401, P.O.C.: Victor Smith at Tel. (843) 853-3625, Fax (843) 577-6673

Texas Shrimpers' Association Convention, Moody Gardens Hotel, 7 Hope Boulevard, Galveston, TX 77551, Tel. (361) 758-5024—Texas Shrimpers' Assoc.; Tel. (409) 741-8484—Moody Gardens Hotel

Italian American Club, 1903 Cabrillo Avenue, San Pedro, CA 90831, Tel. (510) 437-2947

National Oceanic and Atmospheric Association, Building 9 Auditorium, 7600 Sand Point Way N.E., Seattle, WA 98115

To make sure your comments and related material do not enter the docket more than once, please submit them by only one of the following means:

(1) By mail to the Docket Management Facility, (USCG-2000-6942), U.S. Department of Transportation, room PL-401, 400 Seventh Street SW., Washington, DC 20590-0001.

(2) In person to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments will become part of this docket and will be available for inspection on the Plaza Level of the Nassif Building at the above address between 10 a.m. and 5 p.m., Monday through Friday, except federal holidays. You may also electronically access the public docket for this notice on the internet at http://dms.dot.gov.

FOR FURTHER INFORMATION CONTACT: For information on the public docket, call Carol Kelly, Coast Guard Dockets Team Leader, or Paulette Twine, Chief, Documentary Services Division, U.S. Department of Transportation, telephone 202-366-9329; for information concerning the notice of meeting reach Lieutenant Joe Paitl or Ensign Chris O'Neal, (G-MOC-3), 2100 Second St, SW, Washington, DC 20593-0001, telephone 202-267-0507 or 202-267-2008, or electronic mail Gpaitl@comdt.uscg.mil or Co'neal@comdt.uscg.mil.

SUPPLEMENTARY INFORMATION:

Request for Comments

We encourage interested persons to participate in this information-gathering initiative by submitting written data, views, or other relevant documents. Persons submitting comments should include their names and addresses, and identify this notice (USCG-2000-6942) by the date and give the reasons for each comment. You may submit your comments and material by mail, delivery, fax, or electronic means to the Docket Management Facility at the address under ADDRESSES, but please submit your comments and material by only one means. Please submit all comments and attachments in an unbound format, no larger than 8½ x 11 inches, suitable for copying and electronic filing to the DOT Docket Management Facility at the address under ADDRESSES. If you want acknowledgement of receipt of your comments, please enclose a stamped, self-addressed post card or envelope. Comments received, whether submitted in writing to the docket or presented during the regional listening sessions, will be considered in refining the CFVSAP.

Background

In response to the alarming number of deaths in the fishing industry, the Coast Guard chartered a Task Force to identify ways to improve safety. The Task Force examined fishing vessel casualties in the context of historical data, reviewed the Coast Guard's existing Commercial Fishing Vessel Safety Program, reviewed past safety recommendations, and provided quick feedback to the fishing industry by recommending measures believed to have the greatest potential for reducing loss of life and property. The Task Force completed a report containing safety recommendations in March 1999 and presented the report to the Commercial Fishing Industry Vessel Advisory Committee (CFIVAC) and Coast Guard District Fishing Vessel Safety Coordinators. The Task Force report is available at http://www.get.to/thefishingreport or from Commandant (G-MOA), U.S. Coast Guard Headquarters, 2100 Second Street SW., Washington, DC 20593-0001, 202-267-1430. The Coast Guard consolidated the Task Force recommendations commonly supported by both the CFIVAC and the District Fishing Vessel Safety Coordinators and subsequently developed the CFVSAP. The CFVSAP was presented at the October 4-5, 1999, meeting of the CFIVAC. The CFIVAC agreed with the concepts presented in the CFVSAP. Also, the CFIVAC agreed with the Coast Guard that holding regional listening sessions would result in valuable input from a larger segment of the fishing industry. By publication of this notice, the Coast Guard is seeking further feedback from fisherman on the CFVSAP. The CFVSAP is available at http://www.uscg.mil/hq/g-m/advisory/cfivac/fishexpo99.pdf or from Commandant (G-MOC), U.S. Coast Guard Headquarters, 2100 Second Street SW., Washington, DC 20593-0001, 202-267-2008.

Objective and Issues

The objective of the regional listening sessions and the request for comments is to receive information from the general public and the fishing industry pertaining to the CFVSAP and other possible safety issues affecting the fishing industry. The Coast Guard wishes to identify ways to improve safety in the fishing industry.

The Coast Guard is specifically interested in information pertaining to the following:

The most critical safety issues in your region.

Ways the Coast Guard might better communicate with the fishing industry.

Ways the Coast Guard might assist in improving safety in the fishing industry.

Ways the fishing industry might improve its safety record without Coast Guard or other government involvement.

The minimum level of training that should be considered in a training-based certificate program.

The most safety-beneficial composition of a vessel examination program.

Whether the Territorial Sea Baseline is the best reference parameter for setting certain safety equipment carriage requirements.

Format of Regional Listening Sessions

Each listening session will follow a presentation by the Coast Guard on the CFVSAP. After the presentation the audience will have an opportunity to comment on the specifics of the CFVSAP. The Coast Guard will then present a list of standardized issues similar to those contained in Objectives and Issues and then open the listening session to general comments from the audience.

Information on Services for Individuals With Disabilities

For information on facilities or services for individuals with disabilities or to request special assistance at the meetings, reach LT Paitl or ENS O'Neal where noted in FOR FURTHER INFORMATION CONTACT as soon as possible.

Dated: March 10, 2000.
R.C. North,
Rear Admiral, Coast Guard, Assistant Commandant for Marine Safety and Environmental Protection.

[FR Doc. 00-6545 Filed 3-15-00; 8:45 am]

BILLING CODE 4910-15-U